Proclamation 10179 of April 13, 2021

Pan American Day and Pan American Week, 2021

By the President of the United States of America

A Proclamation

One hundred and thirty-one years ago, our hemisphere formed the International Union of American Republics—the oldest regional international organization in the world, and the precursor to the modern-day Organization of American States. On this Pan American Day and Pan American Week, we reaffirm the strength of our regional community, celebrate the democratic principles that unite us, and resolve to work together to overcome the common challenges before us.

So many of the greatest challenges facing us today are not confined to our respective national boundaries. The global COVID-19 crisis has laid bare persistent inequalities in our societies and structural weaknesses in our economies. Climate change poses an urgent national security threat that is hurting communities throughout the region today and jeopardizing future generations. We are witnessing a humanitarian crisis and mass displacement in Venezuela that is among the worst in history. Violence and endemic corruption, particularly in Central America, are causing desperate people to uproot their lives and families in hopes of a better future elsewhere.

No nation can address today's challenges alone or hide from them behind walls. A secure, economically prosperous, and democratic hemisphere is overwhelmingly in the economic and national security interest of the United States and the entire Pan American region. Moreover, it is within our capacity to reach that future if we rally together and unite around principled and democratic leadership—anchored in the rule of law.

The people of our hemisphere want governments that are accountable to voters and deliver real benefits: good-paying jobs that allow hard-working people to provide for their families, education for their children, security in their communities, and a future where equal opportunity and fundamental human and political rights are guaranteed to all people.

This year, as we mark the 20th anniversary of the Inter-American Democratic Charter, each of our governments has an obligation to renew, promote, and defend that groundbreaking commitment we made—that all people who call the Americas home have a right to democracy. The Democratic Charter remains at the core of our hemispheric union, working through the Organization of American States, to advance a bold and determined vision of a region whose governments honor and respect democratic values, human rights, fundamental freedoms, and the inherent dignity of each individual. During this Pan American Day and Pan American Week, we celebrate our unity and cooperation—and resolve to work together to overcome the challenges ahead of us and build a better world.

NOW, THEREFORE, I, JOSEPH R. BIDEN JR., President of the United States of America, by virtue of the authority vested in me by the Constitution and the laws of the United States, do hereby proclaim April 14, 2021, as Pan American Day and April 11 through April 17, 2021, as Pan American Week. I urge the Governors of the 50 States, the Governor of the Commonwealth of Puerto Rico, and the officials of the other areas under the flag of the United States of America to honor these observances with appropriate ceremonies and activities.

IN WITNESS WHEREOF, I have hereunto set my hand this thirteenth day of April, in the year of our Lord two thousand twenty-one, and of the Independence of the United States of America the two hundred and forty-fifth.

[FR Doc. 2021-08010

Filed 4-15-21; 8:45 am]

Billing code 3295-F1-P